SMALL BUSINESS ADMINISTRATION

[Applicant No. 99000399]

East Gate Private Equity Fund III, L.P.; Notice Seeking Exemption Under Section 312 of the Small Business Investment Act, Conflicts of Interest

Notice is hereby given that East Gate Private Equity Fund III, L.P., 2192 Fortune Drive San Jose California 95131, an applicant for a Federal License under the Small Business Investment Act of 1958, as amended (“the Act”), in connection with the financing of a small concern, has sought an exemption under section 312 of the Act and section 107.730, Financings which Constitute Conflicts of Interest of the Small Business Administration (“SBA”) rules and regulations (13 CFR 107.730 (2000)). East Gate Private Equity Fund III, L.P. proposes to provide equity financing to Qixo, Inc., 2192 Fortune Drive San Jose California 95131. The financing is contemplated for working capital, the acquisition of machinery and equipment, and marketing.

The financing is brought within the purview of Sec. 107.730(a)(1) of the Regulations because East Gate Cayman Corporation, an Associate of East Gate Private Equity Fund III, L.P., currently owns greater than 10 percent of Qixo, Inc. and therefore Qixo, Inc. is considered an Associate of East Gate Private Equity Fund III, L.P., as defined in Sec. 107.50 of the regulations.

Notice is hereby given that any interested person may submit written comments on the transaction to the Associate Administrator for Investment, U.S. Small Business Administration, 409 Third Street, SW., Washington, DC 20416.

Dated: November 15, 2000.
Don A. Christensen,
Associate Administrator for Investment.

[FR Doc. 00-30264 Filed 11-27-00; 8:45 am]

BILLING CODE 8025-01-P